DEPARTMENT OF TRANSPORTATION

Federal Aviation Administration

Public Notice for Waiver of Aeronautical Land-Use Assurance

AGENCY: Federal Aviation Administration (FAA), DOT.

ACTION: Notice of intent of waiver with respect to land; Akron Fulton International Airport, Akron, OH.

SUMMARY: The Federal Aviation Administration (FAA) is considering a proposal to change approximately 7.9510 acres of airport land from aeronautical use to non-aeronautical use and to authorize the sale of airport property at Akron Fulton International Airport, Akron, OH.

The property is located at 1353 Exeter Road. The aforementioned land is surplus airport property and is not needed for aeronautical use. The land is currently developed and leased for light industrial purposes. Upon release the land will be sold at fair market value to a business the currently leasing the property.

DATES: Comments must be received on or before October 5, 2015.

ADDRESSES: Documents are available for review by appointment at the FAA Airports District Office, Alex Erskine, Program Manager, 11677 South Wayne Road, Suite 107, Romulus, Michigan 48174 Telephone: (734) 229-2900/Fax: (734) 229-2950 and City of Akron, Engineering Bureau, 166 South High Street, Akron, Ohio 44308 Telephone (330) 375-2865.

Written comments on the Sponsor's request must be delivered or mailed to: Alex Erskine, Program Manager, Federal Aviation Administration, Airports District Office, 11677 South Wayne Road, Suite 107, Romulus, Michigan 48174, Telephone Number: (734) 229-2900/FAX Number: (734) 229-2950.

FOR FURTHER INFORMATION CONTACT: Alex Erskine, Program Manager, Federal Aviation Administration, Airports District Office, 11677 South Wayne Road, Suite 107, Romulus, Michigan 48174. Telephone Number: (734) 229-2900/FAX Number: (734) 229-2950.

SUPPLEMENTARY INFORMATION: In accordance with section 47107(h) of Title 49, United States Code, this notice is required to be published in the Federal Register 30 days before modifying the land-use assurance that requires the property to be used for an aeronautical purpose.

The property is currently leased and is not needed for current or future aeronautical purposes. All of the subject property was transferred to the City of Akron under the provisions of the Surplus Property Act of 1944. The airport plans to sell the property at fair market value upon release.

The disposition of the proceeds from the sale of the airport property will be in accordance with FAA's Policy and Procedures Concerning the Use of Airport Revenue, published in the Federal Register on February 16, 1999 (64 FR 7696).

This notice announces that the FAA is considering the release of the subject airport property at the Akron Fulton International Airport, Akron, Ohio, from federal land covenants, subject to a reservation for continuing right of flight as well as restrictions on the released property as required in FAA Order 5190.6B section 22.16.

Approval does not constitute a commitment by the FAA to financially assist in the disposal of the subject airport property nor a determination of eligibility for grant-in-aid funding from the FAA.

Description for This Survey: Situated in the City of Akron, County of Summit, State of Ohio and being known as part of Original Lot 3, Tract 2, formerly Springfield Township, said parcel being all of 12L and part of additional airport property as referenced in the Akron Fulton International Airport Layout Plan A.I.P. 3-39-0002-04 approved by the FAA August 1992, further bounded and described as follows;

Beginning at an iron pin found in a monument box at the intersection of the centerlines of Kelly Avenue (80′ R/W) and Exeter Road (R/W Varies), thence North 00°31′31″ East, a distance of 40.07 feet to a point, thence South 89°28′29″ East, a distance of 40.00 feet to an iron pin set (capped City of Akron) in the east R/W line of said road thence South 87°51′35″ East, a distance of 99.20 feet to an iron pin set (capped City of Akron) and known as the True Place of Beginning for the following described parcel of land; thence North 61°17′26″ East, a distance of 53.97 feet to an iron pin set (capped City of Akron); thence North 52°40′53″ East, a distance of 1049.19 feet, to an iron pin set (capped City of Akron) in the westerly R/W line of the Metro Regional Transit Authority (60′ R/W); thence, 419.35 feet, along said R/W line and arc of a curve to the left, to an iron pin set (capped City of Akron) at the Point of Tangency, said curve has a radius of 2887.93 feet, a central angle of 08°19′11″, a chord of 418.98 feet and bearing of South 07°33′02″ East; thence South 11°42′28″ East, a distance of 301.41 feet, continuing along said R/W line, to an iron pin set (capped City of Akron) in the north R/W line of Exeter Road; thence North 87°51′35″ West, a distance of 999.06 feet, along said R/W line, to an iron pin set (capped City of Akron); thence North 02°08′08″ East, a distance of 11.19 feet, to the Place of Beginning, containing 7.9510 Acres of land, more or less, but subject to all legal highways and easements of record.

As determined from a survey made by Paul R. Couch, Registered Surveyor No. 7824 on behalf of the City of Akron Engineering Bureau, June 2014.

The basis of bearings is referenced to the Ohio State Plane Coordinate System, North Zone.

Issued in Romulus, Michigan, on August 17, 2015.
John L. Mayfield, Jr.,
Manager, Detroit Airports District Office, FAA, Great Lakes Region.

[FR Doc. 2015-22008 Filed 9-3-15; 8:45 am]

BILLING CODE 4910-13-P